DEPARTMENT OF TRANSPORTATION

Federal Railroad Administration

[Docket Number FRA-2015-0072]

Petition for Waiver of Compliance

AGENCY: Federal Railroad Administration, DOT.

ACTION: Petition for Waiver of Compliance.

SUMMARY: This document provides the public notice that by a document dated November 21, 2014, Union Pacific Railroad Company (UP) has petitioned the Federal Railroad Administration (FRA) for a waiver of compliance from certain provisions of the Federal railroad safety regulations.

DATES: Communications received by August 31, 2015 will be considered by FRA before final action is taken. Comments received after that date will be considered as far as practicable.

ADDRESSES: A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

SUPPLEMENTARY INFORMATION:

In accordance with part 211 of Title 49 Code of Federal Regulations (CFR), this document provides the public notice that by a document dated November 21, 2014, Union Pacific Railroad Company (UP) has petitioned the Federal Railroad Administration (FRA) for a waiver of compliance from certain provisions of the Federal railroad safety regulations contained at 49 CFR part 236. FRA assigned the petition Docket Number FRA-2015-0072.

UP seeks a waiver from compliance with cab signal system requirements found in 49 CFR 236.566, Locomotive of each train operating in train stop, train control, or cab signal territory; equipped. Specifically, UP seeks relief to operate the following: Non-equipped engines used in switching and transfer service, with or without cars; work trains; wreck trains; ballast cleaners to and from work; and engines and rail diesel cars moving to and from shops at the following locations:

1. Operations on the Chicago Service Unit, Geneva Subdivision, from Control Point (CP) Y901 and Kedzie may be made in accordance with signal indication and at restricted speed:

• With engines not equipped with Automatic Train Control (ATC) with or without cars; or

• To and from the CP Y901 with the ATC cut out and backup moves; or

• With the ATC cut out due to failure.

2. Operations on the Chicago Service Unit, Geneva Subdivision, from Kedzie and Park CP Y015: Engines not equipped with ATC and foreign crews operating UP trains may be operated at a speed not exceeding 40 mph when a block signal displays an indication more favorable than Approach. An Approach or more favorable indication establishes an absolute block to the next block signal. If the block signal displays a Stop, Restricted Proceed, or Restricting indication, the train must stop and not proceed until authorized by the train dispatcher. However, the train may pass a signal indicating Restricting to leave the main track immediately past the signal.

3. Operations on the Chicago Service Unit, Geneva Subdivision: Non-equipped engines in switching service may be operated on the main track between CP Y901 and Elmhurst; between Dixon and Nelson; between Nelson and Sterling; between East Clinton and Clinton; and at West Chicago, De Kalb, Dixon, Nelson, Sterling and Clinton within switching limits, in accordance with signal indication, not exceeding restricted speed.

4. Operations on the Chicago Service Unit, Harvard Subdivision: Engines not equipped with Automatic Train Stop may be operated:

(a) Between CP N001 and Milepost 25.0 west of Arlington Park in accordance with automatic block signals not exceeding restricted speed.

(b) Between Harvard and CP N002 for inspection and repairs not exceeding 40 mph. Such movements must be made in accordance with automatic block signals and an absolute block in advance of the movement.

5. Operations on the Chicago Service Unit, Kenosha Subdivision: Non-equipped engines may be operated:

(a) Between CP N001 and Evanston in accordance with automatic block signal indications not exceeding restricted speed.

(b) At Waukegan and Kenosha within yard limits at restricted speed.

(c) Between Waukegan and CP N001 for inspection and repairs not exceeding 40 mph. Such movement must be made in accordance with automatic block signal indications and with an absolute block in advance of movement.

UP states that a waiver from the section 236.566 requirements is vital to maintaining efficient rail operations in the above locations. This request for relief will not have an adverse effect on safety as the use of wayside signals governs movement in the covered territories and ensures the continuing safety of operations in this territory. Moreover, UP had exemptions that were previously granted in the areas listed for several years. The relief requested in this petition is consistent with the currently granted exceptions. Unfortunately, the original waiver cannot be located by UP or FRA.

This petition was previously submitted under Docket Number FRA-2013-0129. Due to misunderstood and lost communications between UP and FRA, it has been resubmitted, with Docket Number FRA-2013-0129 being rescinded and considered closed.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on July 22, 2015.
Ron Hynes,
Director, Office of Technical Oversight.

[FR Doc. 2015-18743 Filed 7-30-15; 8:45 am]

BILLING CODE 4910-06-P